DEPARTMENT OF ENERGY

Federal Energy Regulatory Commission

[Docket No. PF24-4-000]

DeLa Express LLC; Notice of Scoping Period Requesting Comments on Environmental Issues for the Planned Dela Express Project, and Notice of Public Scoping Sessions

The staff of the Federal Energy Regulatory Commission (FERC or Commission) will prepare an environmental document that will discuss the environmental impacts of the DeLa Express Project involving construction and operation of facilities by DeLa Express LLC (DeLa Express) in Reeves, Loving, Andrews, Ward, Winkler, Ector, Midland, Upton, Glasscock, Sterling, Coke, Runnels, Coleman, Brown, Mills, Hamilton, Coryell, McLennan, Falls, Bell, Robertson, Milam, Brazos, Grimes, Montgomery, Walker, San Jacinto, Liberty, Hardin, Jefferson, and Orange Counties, Texas and Calcasieu Parish, Louisiana. The Commission will use this environmental document in its decision-making process to determine whether the project is in the public convenience and necessity.

This notice announces the opening of the scoping process the Commission will use to gather input from the public and interested agencies regarding the project. As part of the National Environmental Policy Act (NEPA) review process, the Commission takes into account concerns the public may have about proposals and the environmental impacts that could result from its action whenever it considers the issuance of a Certificate of Public Convenience and Necessity. This gathering of public input is referred to as “scoping.” The main goal of the scoping process is to focus the analysis in the environmental document on the important environmental issues. Additional information about the Commission's NEPA process is described below in the NEPA Process and Environmental Document section of this notice.

By this notice, the Commission requests public comments on the scope of issues to address in the environmental document. To ensure that your comments are timely and properly recorded, please submit your comments so that the Commission receives them in Washington, DC on or before 5:00 p.m. Eastern Time on September 23, 2024. Comments may be submitted in written or oral form. Further details on how to submit comments are provided in the Public Participation section of this notice.

Your comments should focus on the potential environmental effects, reasonable alternatives, and measures to avoid or lessen environmental impacts. Your input will help the Commission staff determine what issues they need to evaluate in the environmental document. Commission staff will consider all written or oral comments during the preparation of the environmental document.

If you submitted comments on this project to the Commission before the opening of this docket on April 2, 2024, you will need to file those comments in Docket No. PF24-4-000 to ensure they are considered.

This notice is being sent to the Commission's current environmental mailing list, as described in the Environmental Mailing List section of this notice. State and local government representatives should notify their constituents of this planned project and encourage them to comment on their areas of concern.

If you are a landowner receiving this notice, a pipeline company representative may contact you about the acquisition of an easement to construct, operate, and maintain the planned facilities. The company would seek to negotiate a mutually acceptable easement agreement. You are not required to enter into an agreement. However, if the Commission approves the project, the Natural Gas Act conveys the right of eminent domain to the company. Therefore, if you and the company do not reach an easement agreement, the pipeline company could initiate condemnation proceedings in court. In such instances, compensation would be determined by a judge in accordance with state law. The Commission does not subsequently grant, exercise, or oversee the exercise of that eminent domain authority. The courts have exclusive authority to handle eminent domain cases; the Commission has no jurisdiction over these matters.

A fact sheet prepared by the FERC entitled “An Interstate Natural Gas Facility On My Land? What Do I Need To Know?” addresses typically asked questions, including the use of eminent domain and how to participate in the Commission's proceedings. This fact sheet along with other landowner topics of interest are available for viewing on the FERC website (www.ferc.gov) under the Natural Gas, Landowner Topics link.

Public Participation

There are four methods you can use to submit your comments to the Commission. Please carefully follow these instructions so that your comments are properly recorded. The Commission encourages electronic filing of comments and has staff available to assist you at (866) 208-3676 or FercOnlineSupport@ferc.gov.

(1) You can file your comments electronically using the eComment feature, which is located on the Commission's website (www.ferc.gov) under the link to FERC Online. Using eComment is an easy method for submitting brief, text-only comments on a project;

(2) You can file your comments electronically by using the eFiling feature, which is located on the Commission's website (www.ferc.gov) under the link to FERC Online. With eFiling, you can provide comments in a variety of formats by attaching them as a file with your submission. New eFiling users must first create an account by clicking on “eRegister.” You will be asked to select the type of filing you are making; a comment on a particular project is considered a “Comment on a Filing”; or

(3) You can file a paper copy of your comments by mailing them to the Commission. Be sure to reference the project docket number (PF24-4-000) on your letter. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852.

(4) In lieu of sending written comments, the Commission invites you to attend one of the public scoping sessions its staff will conduct in the project area, scheduled as follows:

Date and time | Location
Monday, September 9, 2024, 4:30-6:30 p.m | Harvest Event Center, 9775 Highway 146 N, Liberty, TX 77575.
Tuesday, September 10, 2024, 4:30-6:30 p.m | Ward 7 Recreation Center, 1615 Horridge Street, Vinton, LA 70668.
Wednesday, September 11, 2024, 4:30-6:30 p.m | Cleveland Civic Center, 210 Peach Avenue, Cleveland, TX 77327.
Thursday, September 12, 2024, 4:30-6:30 p.m | Huntsville Public Library, 1219 13th Street, Huntsville, TX 77340.
Tuesday, September 10, 2024, 4:30-6:30 p.m | Ballinger Community Center, 200 Crosson Avenue, Ballinger, TX 76821.
Wednesday, September 11, 2024, 4:30-6:30 p.m | Sterling County Senior Citizens Center, 410 Stadium Street, Sterling City, TX 76951.
Thursday, September 12, 2024, 4:30-6:30 p.m | Lawndale Community Center, 9201 Rainbow Drive, Odessa, TX 79765.
Monday, September 16, 2024, 4:30-6:30 p.m | Kurten Community Center, 13055 E. State Highway 21, Kurten, TX 77862.
Tuesday, September 17, 2024, 4:30-6:30 p.m | Westphalia Parish Hall, 114 County Road 3000, Lott, TX 76656.
Wednesday, September 18, 2024, 4:30-6:30 p.m | Windmill Hill Venue, 1808 Bridge Street, Gatesville, TX 76528.
Thursday, September 19, 2024, 4:30-6:30 p.m | Adams Street Community Center, 511 E Adams Street, Brownwood, TX 76801.

The primary goal of these scoping sessions is to have you identify the specific environmental issues and concerns that should be considered in the environmental document. Individual oral comments will be taken on a one-on-one basis with a court reporter. This format is designed to receive the maximum amount of oral comments in a convenient way during the timeframe allotted.

Each scoping session is scheduled from 4:30 p.m. to 6:30 p.m. Central. You may arrive at any time after 4:30 p.m. There will not be a formal presentation by Commission staff when the session opens. If you wish to speak, the Commission staff will hand out numbers in the order of your arrival. Comments will be taken until 6:30 p.m. However, if no additional numbers have been handed out and all individuals who wish to provide comments have had an opportunity to do so, staff may conclude the session at 6:00 p.m. Please see appendix 1 for additional information on the session format and conduct.¹

¹ The appendices referenced in this notice will not appear in the Federal Register. Copies of the appendices were sent to all those receiving this notice in the mail and are available at www.ferc.gov using the link called “eLibrary”. For instructions on connecting to eLibrary, refer to the last page of this notice. For assistance, contact FERC at FERCOnlineSupport@ferc.gov or call toll free, (886) 208-3676 or TTY (202) 502-8659.

Your scoping comments will be recorded by a court reporter (with FERC staff or representative present) and become part of the public record for this proceeding. Transcripts will be publicly available on FERC's eLibrary system (see the last page of this notice for instructions on using eLibrary). If a significant number of people are interested in providing oral comments in the one-on-one settings, a time limit of 5 minutes may be implemented for each commentor.

It is important to note that the Commission provides equal consideration to all comments received, whether filed in written form or provided orally at a scoping session. Although there will not be a formal presentation, Commission staff will be available throughout the scoping session to answer your questions about the environmental review process. Representatives from DeLa Express will also be present to answer project-specific questions.

Additionally, the Commission offers a free service called eSubscription, which makes it easy to stay informed of all issuances and submittals regarding the dockets/projects to which you subscribe. These instant email notifications are the fastest way to receive notification and provide a link to the document files which can reduce the amount of time you spend researching proceedings. Go to https://www.ferc.gov/ferc-online/overview to register for eSubscription.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

Summary of the Planned Project

DeLa Express plans to construct and operate an approximately 645.5-mile-long, 42-inch-diameter natural gas transportation mainline pipeline originating in Winkler County, Texas to a termination point in Calcasieu Parish, Louisiana. The Project would also consist of six lateral pipelines (totaling 139 miles). The DeLa Express Project would provide about 2 billion cubic feet per day of natural gas transportation from the Permian Basin in West Texas to Gulf Coast markets between Jefferson County, Texas and Cameron Parish, Louisiana. The Project is specifically designed to ease future supply and demand market constraints and increase U.S. consumers' access to natural gas and natural gas liquids. The Project will enable DeLa Express to transport liquids-rich natural gas from Permian receipt points with metering, dew point control, and heavy liquids removal to the Lake Charles, Louisiana area.

The DeLa Express Project would include construction of the following facilities:

• 645.5 miles of 42-inch-diameter mainline pipeline from Compressor Station 1 in Winkler County, Texas to a gas plant in Calcasieu Parish, Louisiana;

• six pipeline laterals, including the:

○ Field Gas Transport Lateral—a 60.0-mile, 42-inch-diameter pipeline in Reeves, Loving, and Winkler Counties. DeLa Express would also construct a 35.5-mile non-jurisdictional liquids line adjacent to the Field Gas Transport Lateral.

○ Red Bluff Lateral—an 8.3-mile, 24-inch-diameter pipeline in Reeves County, Texas;

○ China Draw Lateral—a 6.7-mile, 30-inch-diameter pipeline in Reeves County, Texas;

○ Lea Lateral—a 5.9-mile, 30-inch-diameter pipeline in Loving County, Texas;

○ Pecos Lateral—a 33.8-mile, 30-inch-diameter pipeline in Winkler and Ward Counties, Texas. DeLa Express would also construct a non-jurisdictional liquids line adjacent to the full length of the Pecos Lateral.

○ Andrews Lateral—a 24.3-mile, 30-inch-diameter pipeline in Winkler and Andrews Counties, Texas. DeLa Express would also construct a non-jurisdictional liquids line adjacent to the full length of the Andrews Lateral.

• six new electric-driven compressor stations, including one each in Winkler, Glasscock, Coleman, Coryell, Brazos, and Liberty Counties, Texas;

• three new dew point control sites ² in Loving, Ward, and Andrews Counties, Texas;

² Dew point control facilities are used to remove heavy liquids that condense as wet gas cools in a pipeline.

• one new stabilization plant collocated with the compressor station in Winkler County, Texas;

• a total of 42 mainline and 5 lateral valve sites;

• multiple meter stations collocated at other aboveground facilities; and,

• pig launcher/receiver sites, including 10 collocated within other aboveground facilities and 4 standalone sites.

The general location of the project facilities is shown in appendix 2.

Land Requirements for Construction

Construction of the planned facilities would disturb about 12,940 acres of land for the aboveground facilities and the pipelines. Following construction, DeLa Express would maintain about 5,459 acres for permanent operation of the project's facilities; the remaining acreage would be restored. About 83 percent of the planned pipeline route parallels existing pipeline, utility, or road rights-of-way.

NEPA Process and the Environmental Document

Any environmental document issued by Commission staff will discuss impacts that could occur as a result of the construction and operation of the planned project under the relevant general resource areas:

• geology and soils;

• water resources and wetlands;

• vegetation and wildlife;

• threatened and endangered species;

• cultural resources;

• land use;

• socioeconomics;

• environmental justice;

• air quality and noise; and

• reliability and safety.

Commission staff have already identified several issues that deserve attention based on a preliminary review of available draft reports and monthly updates provided by DeLa Express. This preliminary list of issues may change based on your comments and our analysis of final reports provided with the application for the Project:

• cumulative impacts associated with multiple adjacent pipeline easements;

• wetland and waterbody impacts;

• specialty crops and agricultural land use;

• environmental justice concerns;

• pipeline safety;

• noise and air impacts associated with compressor stations;

• impacts on existing buried utility lines;

• post-construction vegetation restoration;

• federal and state land impacts; and

• federally and state listed species.

Commission staff will also evaluate reasonable alternatives to the planned project or portions of the project and make recommendations on how to lessen or avoid impacts on the various resource areas. Your comments will help Commission staff identify and focus on the issues that might have an effect on the human environment and potentially eliminate others from further study and discussion in the environmental document.

Although no formal application has been filed, Commission staff have already initiated a NEPA review under the Commission's pre-filing process. The purpose of the pre-filing process is to encourage early involvement of interested stakeholders and to identify and resolve issues before the Commission receives an application. As part of the pre-filing review, Commission staff will contact federal and state agencies to discuss their involvement in the scoping process and the preparation of the environmental document.

If a formal application is filed, Commission staff will then determine whether to prepare an Environmental Assessment (EA) or an Environmental Impact Statement (EIS). The EA or the EIS will present Commission staff's independent analysis of the environmental issues. If Commission staff prepares an EA, a Notice of Schedule for the Preparation of an Environmental Assessment will be issued. The EA may be issued for an allotted public comment period. The Commission would consider timely comments on the EA before making its determination on the proposed project. If Commission staff prepares an EIS, a Notice of Intent to Prepare an EIS/Notice of Schedule will be issued once an application is filed, which will open an additional public comment period. Staff will then prepare a draft EIS that will be issued for public comment. Commission staff will consider all timely comments received during the comment period on the draft EIS, and revise the document, as necessary, before issuing a final EIS. Any EA or draft and final EIS will be available in electronic format in the public record through eLibrary ³ and the Commission's natural gas environmental documents web page (https://www.ferc.gov/industries-data/natural-gas/environment/environmental-documents). If eSubscribed, you will receive instant email notification when the environmental document is issued.

³ For instructions on connecting to eLibrary, refer to the last page of this notice.

With this notice, the Commission is asking agencies with jurisdiction by law and/or special expertise with respect to the environmental issues related to this project to formally cooperate in the preparation of the environmental document.⁴ Agencies that would like to request cooperating agency status should follow the instructions for filing comments provided under the Public Participation section of this notice. Currently, no agencies have expressed their intention to participate as a cooperating agency in the preparation of the environmental document to satisfy their NEPA responsibilities related to this project.

⁴ The Council on Environmental Quality regulations addressing cooperating agency responsibilities are at Title 40, Code of Federal Regulations, part 1501.8.

Consultation Under Section 106 of the National Historic Preservation Act

In accordance with the Advisory Council on Historic Preservation's implementing regulations for section 106 of the National Historic Preservation Act, the Commission is using this notice to initiate consultation with the applicable State Historic Preservation Office(s), and to solicit their views and those of other government agencies, interested Indian tribes, and the public on the project's potential effects on historic properties.⁵ The environmental document for this project will document our findings on the impacts on historic properties and summarize the status of consultations under section 106.

⁵ The Advisory Council on Historic Preservation regulations are at Title 36, Code of Federal Regulations, part 800. Those regulations define historic properties as any prehistoric or historic district, site, building, structure, or object included in or eligible for inclusion in the National Register of Historic Places.

Environmental Mailing List

The environmental mailing list includes federal, state, and local government representatives and agencies; elected officials; environmental justice stakeholders and public interest groups; Native American Tribes; other interested parties; and local libraries and newspapers. This list also includes all affected landowners (as defined in the Commission's regulations) who are potential right-of-way grantors, whose property may be used temporarily for project purposes, or who own homes within certain distances of aboveground facilities, and anyone who submits comments on the project and includes a mailing address with their comments. Commission staff will update the environmental mailing list as the analysis proceeds to ensure that Commission notices related to this environmental review are sent to all individuals, organizations, and government entities interested in and/or potentially affected by the planned project.

If you need to make changes to your name/address, or if you would like to remove your name from the mailing list, please complete one of the following steps:

(1) Send an email to GasProjectAddressChange@ferc.gov stating your request. You must include the docket number PF24-4-000 in your request. If you are requesting a change to your address, please be sure to include your name and the correct address. If you are requesting to delete your address from the mailing list, please include your name and address as it appeared on this notice. This email address is unable to accept comments.

OR

(2) Return the attached “Mailing List Update Form” (appendix 3).

Becoming an Intervenor

Once DeLa Express files its application with the Commission, you may want to become an “intervenor” which is an official party to the Commission's proceeding. Only intervenors have the right to seek rehearing of the Commission's decision and be heard by the courts if they choose to appeal the Commission's final ruling. An intervenor formally participates in the proceeding by filing a request to intervene pursuant to Rule 214 of the Commission's Rules of Practice and Procedures (18 CFR 385.214). Motions to intervene are more fully described at https://www.ferc.gov/how-intervene. Please note that the Commission will not accept requests for intervenor status at this time. You must wait until the Commission receives a formal application for the project, after which the Commission will issue a public notice that establishes an intervention deadline.

Additional Information

Additional information about the project is available from the Commission's Office of External Affairs, at (866) 208-FERC, or on the FERC website (www.ferc.gov) using the eLibrary link. Click on the eLibrary link, click on “General Search” and enter the docket number in the “Docket Number” field. Be sure you have selected an appropriate date range. For assistance, please contact FERC Online Support at FercOnlineSupport@ferc.gov or toll free at (866) 208-3676, or for TTY, contact (202) 502-8659. The eLibrary link also provides access to the texts of all formal documents issued by the Commission, such as orders, notices, and rulemakings.

Public sessions or site visits will be posted on the Commission's calendar located at https://www.ferc.gov/news-events/events along with other related information.

Debbie-Anne A. Reese,
Acting Secretary.

[FR Doc. 2024-19359 Filed 8-27-24; 8:45 am]

BILLING CODE 6717-01-P